DEPARTMENT OF COMMERCE

International Trade Administration

[A-201-830]

Carbon and Certain Alloy Steel Wire Rod From Mexico: Final Results of Antidumping Duty Administrative Review and Final Determination of No Shipments; 2014-2015

AGENCY: Enforcement and Compliance, International Trade Administration, U.S. Department of Commerce.

SUMMARY: On November 16, 2016, the Department of Commerce (the Department) published the preliminary results of the administrative review of the antidumping duty order on carbon and certain alloy steel wire rod (wire rod) from Mexico. The period of review (POR) is October 1, 2014, through September 30, 2015, and the review covers two producers/exporters of subject merchandise: ArcelorMittal Las Truchas, S.A. de C.V. (AMLT) and Deacero S.A.P.I. de C.V. (Deacero). Based on our analysis of the comments received, we made certain changes to our preliminary findings for Deacero. The final weighted-average dumping margin for the reviewed producers/exporters are listed below in the section entitled “Final Results of Review.”

DATES: Effective May 22, 2017.

FOR FURTHER INFORMATION CONTACT: James Terpstra (for Deacero) and Jolanta Lawska (for AMLT), AD/CVD Operations, Office III, Enforcement and Compliance, International Trade Administration, U.S. Department of Commerce, 1401 Constitution Avenue NW., Washington, DC 20230; telephone: 202-482-3965 and 202-482-8362, respectively.

SUPPLEMENTARY INFORMATION:

Background

On November 16, 2016, the Department published in the Federal Register the Preliminary Results of the antidumping duty administrative review of wire rod from Mexico.¹ We invited interested parties to comment on our Preliminary Results. On January 11, 2017, the Department received case briefs from Deacero, and Nucor Corporation (Nucor).² On January 17, 2017, interested parties submitted rebuttal briefs. On January 20, 2017, the Department extended the deadline for the final results of this administrative review until May 15, 2017.³ On January 31, 2017, the Department held a public hearing. The Department conducted this administrative review in accordance with section 751 of the Tariff Act of 1930, as amended (the Act).

¹ See Carbon and Certain Alloy Steel Wire Rod from Mexico: Preliminary Results of Antidumping Duty Administrative Review; 2014-2015, 81 FR 80638 (November 16, 2016) (Preliminary Results) and accompanying Preliminary Decision Memorandum.

² Nucor Corporation (Nucor) is a domestic interested party.

³ See Memorandum regarding Antidumping Duty Administrative Review: Carbon and Certain Alloy Steel Wire Rod From Mexico: Extension of Time Limit for Final Results, dated January 20, 2017.

Period of Review

The POR covered by this review is October 1, 2014, through September 30, 2015.

Scope of the Order

The merchandise subject to this order is carbon and certain alloy steel wire rod. The product is currently classified under the Harmonized Tariff Schedule of the United States (HTSUS) item numbers 7213.91.3010, 7213.91.3090, 7213.91.4510, 7213.91.4590, 7213.91.6010, 7213.91.6090, 7213.99.0031, 7213.99.0038, 7213.99.0090, 7227.20.0010, 7227.20.0020, 7227.20.0090, 7227.20.0095, 7227.90.6051, 7227.90.6053, 7227.90.6058, and 7227.90.6059. Although the HTS numbers are provided for convenience and customs purposes, the written product description remains dispositive.⁴

⁴ See Decision Memorandum for Final Results of 2014/15 Antidumping Duty Administrative Review: Carbon and Certain Alloy Steel Wire Rod from Mexico (Issues and Decision Memorandum), dated concurrently with and hereby adopted by this notice for a complete description of the scope of the order.

Analysis of Comments Received

All issues raised in the case and rebuttal briefs by parties to this proceeding are addressed in the Issues and Decision Memorandum. A list of the issues that parties raised and to which we responded is attached to this notice as an Appendix. The Issues and Decision Memorandum is a public document and is on file electronically via Enforcement and Compliance's Antidumping and Countervailing Duty Centralized Electronic Service System (ACCESS). ACCESS is available to registered users at http://access.trade.gov and in the Central Records Unit (CRU), room B8024 of the main Department of Commerce building. In addition, a complete version of the Issues and Decision Memorandum can be accessed directly on the Internet at http://trade.gov/enforcement. The signed Issues and Decision Memorandum and the electronic versions of the Issues and Decision Memorandum are identical in content.

Changes Since the Preliminary Results

Based on our analysis of the comments received, we applied total adverse facts available (AFA) to Deacero and assigned it the highest margin alleged in the petition, i.e., 40.52 percent, as Deacero's AFA rate. These changes are fully discussed in the Issues and Decision Memorandum.

Final Results of Review

As a result of this review, we determine that the following margin exists for the POR:

Producer/exporter | Weighted- average dumping margin (percent)
Deacero S.A.P.I. de C.V | 40.52

Final Determination of No Shipments

As stated in the Preliminary Results, AMLT reported that it made no sales of subject merchandise during the POR.⁵ We received no comments from interested parties with respect to the Department's preliminary determination of no shipments for AMLT, and we continue to determine that AMLT had no reviewable transactions during the POR. As noted in the “Assessment Rates” section below, the Department intends to issue appropriate instructions to U.S. Customs and Border Protection (CBP) for AMLT based on the final results of this review.

⁵ See Preliminary Results, 81 FR at 80639, and accompanying Preliminary Decision Memorandum at 2.

Assessment Rates

Pursuant to section 751(a)(2)(A) of the Act, and 19 CFR 351.212(b), the Department has determined, and CBP shall assess, antidumping duties on all appropriate entries of subject merchandise in accordance with the final results of this review.⁶ The Department intends to issue assessment instructions to CBP 15 days after the date of publication of these final results of review.

⁶ For assessment purposes, the Department applied the assessment rate calculation method adopted in Antidumping Proceedings: Calculation of the Weighted-Average Dumping Margin and Assessment Rate in Certain Antidumping Proceedings: Final Modification, 77 FR 8101 (February 14, 2012).

The Department will instruct CBP to apply an ad valorem assessment rate of 40.52 percent to all entries of subject merchandise during the POR which were produced and/or exported by Deacero. Additionally, because the Department determined that AMLT had no shipments of the subject merchandise, any suspended entries that entered under that company's case number (i.e., at that company's rate) will be liquidated at the all-others rate effective during the period of review.⁷

⁷ For a full discussion of this clarification, see Antidumping and Countervailing Duty Proceedings: Assessment of Antidumping Duties, 68 FR 23954 (May 6, 2003).

Cash Deposit Requirements

The following cash deposit requirements will be effective upon publication of the notice of final results of administrative review for all shipments of subject merchandise entered, or withdrawn from warehouse, for consumption on or after the publication of the final results of this administrative review, as provided by section 751(a)(2) of the Act: (1) The cash deposit rates for Deacero will be the rate established in the final results of this administrative review; (2) for merchandise exported by producers or exporters not covered in this administrative review but covered in a prior segment of the proceeding, the cash deposit rate will continue to be the company-specific rate published for the most recent period; (3) if the exporter is not a firm covered in this review, a prior review, or the original investigation, but the producer is, the cash deposit rate will be the rate established for the most recent period for the producer of the merchandise; and (4) the cash deposit rate for all other producers or exporters will continue to be 20.11 percent, the all-others rate established in the investigation.⁸ These cash deposit requirements, when imposed, shall remain in effect until further notice.

⁸ See Notice of Antidumping Duty Orders: Carbon and Certain Alloy Steel Wire Rod from Brazil, Indonesia, Mexico, Moldova, Trinidad and Tobago, and Ukraine, 67 FR 65945 (October 29, 2002).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h).

Dated: May 15, 2017.
Ronald K. Lorentzen,
Acting Assistant Secretary for Enforcement and Compliance.

Appendix I

List of Topics Discussed in the Final Decision Memorandum

I. Summary

II. Background

III. Use of Adverse Facts Available

IV. List of Comments

Comment 1: Whether the Department Should Apply AFA to Deacero

Comment 2: Whether the Department Should Reject Deacero's Adjustment to its Billet Costs

Comment 3: Whether the Department Should Recalculate Mid Continent's General and Administrative Expense (G&A) Rate

Comment 4: Whether the Department Should Reject Deacero's Residual Values

Comment 5: Whether the Department Should Use the Average-to-Average Method

Comment 6: Clerical Error Allegations

V. Scope of the Order

VI. Discussion of Comments

VII. Recommendation

[FR Doc. 2017-10349 Filed 5-19-17; 8:45 am]

BILLING CODE 3510-DS-P